DEPARTMENT OF DEFENSE

Department of the Army

Board of Visitors, United States Military Academy (USMA)

AGENCY: Department of the Army, DoD.

ACTION: Notice; correction.

SUMMARY: The notice of an open meeting scheduled for January 31, 2007 published in the Federal Register on December 8, 2006 (71 FR 71142) has a new meeting location and start time. The meeting will now be held in Room 236 Senate Russell Building, Washington, DC. The new start time for the meeting is approximately 8:30 a.m.

FOR FURTHER INFORMATION CONTACT: Lieutenant Colonel Shaun T. Wurzbach, United States Military Academy, West Point, NY 10996-5000, (845) 938-4200.

SUPPLEMENTARY INFORMATION: None.

Brenda S. Bowen,
Army Federal Register Liaison Officer.

[FR Doc. 07-283 Filed 1-23-07; 8:45 am]

BILLING CODE 3710-08-M